DEPARTMENT OF HEALTH AND HUMAN SERVICES

Announcement of Requirements and Registration for “Lifeline Facebook App Challenge”

AGENCY: Office of the Assistant Secretary for Preparedness and Response, HHS.

ACTION: Notice.

SUMMARY: The “Lifeline Facebook App Challenge” is a challenge aimed at multidisciplinary teams of technology developers, entrepreneurs, and members of the disaster preparedness, response and recovery communities to use Facebook as a platform for connecting individuals together through an application (app) that will provide actionable steps for Facebook users to increase their own personal preparedness and strengthen connections within their social networks for the sake of personal preparedness and community resilience. This challenge will provide useful tools for public health promotion and protection, a key goal for the Assistant Secretary for Preparedness and Response (ASPR) in the U.S. Department of Health and Human Services (HHS).

DATES: Effective on August 8, 2011. Submission period for initial entries begins 12:01 am, EDT, August 15th, 2011, and ends 11:59 pm, EDT, September 15th, 2011.

FOR FURTHER INFORMATION CONTACT: Stacy Elmer, 202-205-4246.

SUPPLEMENTARY INFORMATION: The Office of the Assistant Secretary for Preparedness and Response (formerly the Office of Public Health Emergency Preparedness) was created under the Pandemic and All Hazards Preparedness Act (PAHPA) in the wake of Hurricane Katrina to lead the nation in preventing, preparing for, and responding to the adverse health effects of public health emergencies and disasters. ASPR focuses on preparedness planning and response; building Federal emergency medical operational capabilities; countermeasures research, advance development, and procurement; and grants to strengthen the capabilities of hospitals and health care systems in public health emergencies and medical disasters. The office provides Federal support, including medical professionals through ASPR's National Disaster Medical System, to augment state and local capabilities during an emergency or disaster. Under the PAHPA, HHS is the lead agency for the National Response Framework for Emergency Support Function 8 (ESF). The Secretary of HHS delegates to ASPR the leadership role for all health and medical services support functions in a health emergency or public health event.

The statutory authority for this challenge competition is Section 105 of the America COMPETES Reauthorization Act of 2010 (Pub. L. No. 111-358).

Subject of Challenge Competition: Entrants in the “Lifeline Facebook App Challenge” are asked to develop an application that leverages Facebook's function as a communication tool used by many Americans on a day-to-day basis for connecting with friends and strengthening social networks in order to enhance individuals' ability to be prepared for disasters. The app should integrate the concepts of disaster preparedness and community resilience into an app that better prepares individuals for disasters, thereby strengthening national health security—a key priority for HHS. More information about these priority areas can be found at: http://www.phe.gov.

Entrants are required to develop an app that enables a Facebook user to invite three Facebook friends to become `Lifelines,' or points of contact who agree to act as a source of support during disasters. Entrants are encouraged to creatively leverage Facebook's existing networking and geo-locating capabilities to enhance the app's ability to increase personal preparedness, locate potential disaster victims, and streamline information sharing among social networks during disasters.

Eligibility rules for participating in the competition: To be eligible to win a prize under this challenge, an individual or entity shall have complied with all requirements under this section titled Eligibility Rules for Participating:

(1) Shall have registered to participate in the competition under the rules promulgated by the Office of the Assistant Secretary for Preparedness and Response;

(2) In the case of a private entity, shall be incorporated in and maintain a primary place of business in the United States, and in the case of an individual, whether participating singly or in a group, shall be a citizen or permanent resident of the United States; and

(3) May not be a Federal entity or Federal employee acting within the scope of their employment.

An individual or entity shall not be deemed ineligible because the individual or entity used Federal facilities or consulted with Federal employees during a competition if the facilities and employees are made available to all individuals and entities participating in the competition on an equitable basis.

To be eligible to win a prize under this challenge, registered participants shall be required to sign a liability release in which they agree to assume any and all risks and waive claims against the Federal Government and its related entities, except in the case of willful misconduct, for any injury, death, damage, or loss of property, revenue, or profits, whether direct, indirect, or consequential, arising from their participation in a competition, whether the injury, death, damage, or loss arises through negligence or otherwise.

As part of the registration process, registered participants shall agree to obtain liability insurance or demonstrate financial responsibility at the time of their entry, in amounts determined by the head of the Office of the Assistant Secretary for Preparedness and, for claims by—

(1) A third party for death, bodily injury, or property damage, or loss resulting from an activity carried out in connection with participation in a competition, with the Federal Government named as an additional insured under the registered participant's insurance policy and registered participants agreeing to indemnify the Federal Government against third party claims for damages arising from or related to competition activities;

(2) The Federal Government for damage or loss to Government property resulting from such an activity.

(3) As a condition for eligibility, participants will be required to sign an indemnification agreement as a part of the contest registration process, agreeing to indemnify the Federal Government against third party claims for damages arising from or related to competition activities.

All participants are required to provide written consent to the eligibility rules in this section upon or before submitting an entry. Instructions for providing written consent will be provided during the registration process.

Dates:

• Submission Period for Initial Entries Begins: 12:01 a.m., EDT, August 15th, 2011.

• Submission Period for Initial Entries Ends: 11:59 p.m., EDT, September 15th, 2011.

Registration process for participants:

To register for this challenge participants should:

• Access the http://www.challenge.gov Web site and search for the “Lifeline Facebook App Challenge”.

• For more information on ASPR, visit:

○ http://www.phe.gov

Amount of the prize:

• First prize will receive $10,000.

• Second prize $5,000.

• Third prize $1,000.

Basis upon which winner will be selected:

The judging panel will make selections based upon the criteria found in the challenge at http://www.challenge.gov which will post shortly.

Additional Information

Intellectual property:

Ownership of intellectual property is determined by the following:

• Each entrant retains title and full ownership in and to their submission. Entrants expressly reserve all intellectual property rights not expressly granted under the challenge agreement.

License:

Each entrant retains title and full ownership in and to their submission. Entrant expressly reserves all intellectual property rights not expressly granted under this agreement. By participating in the Challenge, each entrant hereby irrevocably grants to the Federal Government (including HHS) a limited, non-exclusive, royalty free, worldwide license and right to use the Submission to the extent necessary to administer the Challenge, and to publicly perform and publicly display the Submission, including without limitation, for advertising and promotional purposes relating to the Challenge.

Team entries:

By submitting a technology product as an entry in response to this Challenge, each team and each team member represents and warrants that,

(a) The technology product, through its creation and its submission as an entry, does not violate any applicable laws.

(b) The technology product, through its creation and its submission as an entry, does not infringe upon or violate intellectual property rights held by any third person or party.

(c) The technology product be section 508 compliant.

Authority: 15 U.S.C. 3719.

Dated: August 4, 2011.
Nicole Lurie,
Assistant Secretary for Preparedness and Response (ASPR).

[FR Doc. 2011-20296 Filed 8-8-11; 11:15 am]

BILLING CODE 4150-37-P